DEPARTMENT OF AGRICULTURE

Forest Service

Manti-La Sal National Forest Cottonwood Canyon Coal Tract; Emery County, UT; Notice of Intent To Prepare an Environmental Impact Statement

AGENCY: Forest Service, USDA.

ACTION: Notice of intent to prepare an Environmental Impact Statement.

SUMMARY: The Forest Service (FS) will prepare an Environmental Impact Statement (EIS) to document the analysis and disclose the environmental and human effects of proposed coal mining within the Cottonwood Canyon Coal Tract, and to ensure that the Mining and Reclamation Plan will be in accordance with the Manti-La Sal National Forest Land and Resource Management Plan. The Office of Surface Mining Reclamation and Enforcement (OSM) and the Bureau of Reclamation (BOR) will participate as cooperating agencies.

A notice of intent to prepare an EIS for the Cottonwood Canyon Coal Tract was published in the Federal Register on February 19, 1998. The process suspended when the coal estate within the tract, along with several other tracts, was conveyed to the State of Utah School and Institutional Trust Lands Administration (SITLA), creating an outstanding mineral right on those lands. This conveyance is temporary; ownership of the coal estate will revert to the Federal government once a specified royalty value is collected. As owner of an outstanding mineral right, the State of Utah has sole authority to lease the coal estate. Under the Utah Coal Rules and the Memorandum of Understanding (MOU) between SITLA, the United States Department of Agriculture, and the United States Department of the Interior, dated January 5, 1999, the Forest must consent to the Mining and Reclamation Plan prior to mine development. Under the terms of the MOU, the FS will abide by the standards and guidelines contained in the Manti-La Sal National Forest Land and Resource Management Plan in effect on May 8, 1998 (the date on which the Utah Schools and Land Exchange Act of 1998 was ratified). Subject to reasonable terms and conditions for the protection of the surface estate consistent with the Forest Plan, any permit requirements may not prohibit reasonable economic development of the conveyed coal estates.

The coal tract to be considered for mining, as described in the Utah Schools and Land Exchange Act of 1998, encompasses 9,243.87 acres of Federal coal lands on the Manti-La Sal National Forest in T. 17 S., R. 6 E., SLM, in Emery County, Utah. The tract is located approximately 13 miles northwest of Castle Dale, Utah, immediately west and north of the Trail Mountain Mine permit area.

SITLA has requested that the Forest Service conduct the environmental analysis considering the most likely mining scenario and reasonably foreseeable alternatives, and identified non-coal resources needing protections/mitigation prior to competitive lease offering by the State of Utah. This would allow accurate representation of recoverable coal reserves in the tract for the bidding process while considering required measures for minimizing effects to National Forest System resources consistent with the Forest Plan.

The EIS process for this project will include preparation of a reasonably foreseeable mining scenario for the tract that will be used as the basis for determining effects. The most likely access to the coal reserves would be through the existing Trail Mountain Mine, which is currently idle. Mining would be entirely underground, using predominantly longwall methods. Surface disturbance would probably include one ventilation shaft and several exploration drill holes with a total area of approximately 20 acres. The disturbed areas would be reclaimed when no longer needed. Subsidence similar to that over other mined areas on the Wasatch Plateau is expected.

The Forest Service has determined that the proposed lands are available for further consideration for coal mining under the Land and Resource Management Plan (Forest Plan) Final EIS and Record of Decision (ROD) for the Manti-La Sal National Forest, 1986. The Bureau of Land Management (BLM) and FS have determined that coal and environmental data are available to meet Uinta-Southwestern Utah Coal region Data Adequacy Standards.

The purpose of this action is to respond to SITLA's request for the FS to conduct an environmental analysis to evaluate the most likely mining scenario and identify terms and conditions necessary for protection of non-coal resources. The proposed action is to consent to the Cottonwood Canyon Tract Mining and Reclamation Plan, including terms and conditions for the protection of surface resources.

The Forest Service is seeking information and comments from Federal, State, and local agencies as well as individuals and organizations who may be interested in, or affected by, the proposed action. The agency invites written comments and suggestions on the issues related to the proposed action and the area being analyzed. Information received will be used to prepare the Draft and Final EIS and to make the agency decision. For most effective use, comments should be submitted to the Forest Service within 30 days from the date of publication of this notice in the Federal Register.

Agency Decisions

Under the Utah Coal Rules, the Manti-La Sal National Forest must consent to the Mining and Reclamation Plan prior to mine development. The FS consent may be subject to reasonable terms and conditions for the protection of the surface estate.

DATES: Written comments concerning issues to be considered and the scope of the analysis described in this notice should be received on or before May 24, 2002.

ADDRESSES: Send written comments to Forest Supervisor, Manti-La Sal National Forest, 599 West Price River Drive, Price, Utah 84501, ATTN: Dale Harber, Team Leader.

FOR FURTHER INFORMATION CONTACT: Questions concerning the proposed action and EIS should be addressed to Dale Harber or Aaron Howe, Manti-La Sale National Forest, phone (435) 637-2817.

SUPPLEMENTARY INFORMATION: The EIS and Record of Decision (ROD) will tier to the Final EIS and ROD for the Manti-La Sal National Forest Land and Resource Management Plan (Forest Plan). The Forest Plan provides the overall guidance (Goals, Objectives, Standards, and Management Area Direction) to achieve the Desired Future Condition for the area being analyzed, and contains specific management area prescriptions for the entire Forest.

Issues and alternatives to be evaluated in the analysis will be determined through scoping. The primary issues are expected to include the socioeconomic benefits of mining, the potential impacts of underground mining and mining-induced subsidence and seismicity to surface and ground water, vegetation, wildlife, cultural resources, range improvements, recreation, man-made features, and other land uses.

Agency representatives and other interested people are invited to visit with Forest Service and BLM officials at any time during the EIS process. Two specific time periods are identified for the receipt of formal comments on the analysis. The two comment period are, (1) during the scoping process, the next 30 days following publication of this Notice in the Federal Register, and (2) during the formal review period of the Draft EIS.

The Draft EIS is estimated to be filed with the Environmental Protection Agency (EPA) and available for public review in August, 2002. At that time the EPA will publish an availability notice in the Federal Register. The comment period on the Draft EIS will be 45 days from the date that EPA's notice of availability appears in the Federal Register. The Final EIS is expected to be released in January, 2003.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435, U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Authority: (Mineral Leasing Act of February 25, 1920 [P.L. 66-146, 41 Stat. 437, as amended; 30 U.S.C. 181-287])

Dated: February 27, 2002.
Elaine Zieroth,
Forest Supervisor, Manti-La Sal National Forest.

[FR Doc. 02-10980 Filed 5-2-02; 8:45 am]

BILLING CODE 3410-11-M